FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements (202)-523-5793 or tradeanalysis@fmc.gov).

Agreement No.: 011579-012.

Title: Inland Shipping Service Association Agreement.

Parties: Crowley Liner Services, Inc.; and Seaboard Marine, Ltd. and Seaboard Marine of Florida, Inc.

Filing Party: Gerald A. Malia, Esq.; 1660 L Street, NW., Suite 506; Washington, DC 20036.

Synopsis: The amendment would add five countries in Central America to the scope, add APL Co. PTE Ltd. as a party to the agreement, provide for coastal ranges within the Inland Transportation section of the agreement, and make miscellaneous changes in the agreement.

Dated: May 9, 2008.
By Order of the Federal Maritime Commission.
Karen V. Gregory,
Assistant Secretary.

[FR Doc. E8-10789 Filed 5-13-08; 8:45 am]

BILLING CODE 6730-01-P